DEPARTMENT OF JUSTICE

Bureau of Alcohol, Tobacco, Firearms and Explosives

[OMB Number 1140-0004]

Agency Information Collection Activities; Proposed eCollection eComments Requested; Revision of a Currently Approved Collection; Interstate Firearms Shipment Theft/Loss Report—ATF F 3310.6

AGENCY: Bureau of Alcohol, Tobacco, Firearms and Explosives, Department of Justice.

ACTION: 60-day notice.

SUMMARY: The Department of Justice (DOJ), Bureau of Alcohol, Tobacco, Firearms and Explosives (ATF), will submit the following information collection request to the Office of Management and Budget (OMB) for review and approval in accordance with the Paperwork Reduction Act of 1995. The proposed collection OMB 1140-0004 (Interstate Firearms Shipment Theft/Loss Report—ATF F 3310.6) is being revised due to an adjustment in burden, since there is an increase in the number of respondents and burden hours, since the last renewal in 2016.

DATES: Comments are encouraged and will be accepted for 60 days until September 30, 2019.

FOR FURTHER INFORMATION CONTACT: If you have additional comments, regarding the estimated public burden or associated response time, suggestions, or need a copy of the proposed information collection instrument with instructions, or additional information, please contact: Neil Troppman, ATF National Tracing Center either by mail at 244 Needy Road, Martinsburg, WV 25405, by email at neil.troppman@atf.gov, or by telephone at 304-260-3643.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection (check justification or form 83): Revision of a currently approved collection.

2. The Title of the Form/Collection: Interstate Firearms Shipment Theft/Loss Report.

3. The agency form number, if any, and the applicable component of the Department sponsoring the collection:

Form number (if applicable): ATF F 3310.6.

Component: Bureau of Alcohol, Tobacco, Firearms and Explosives, U.S. Department of Justice.

4. Affected public who will be asked or required to respond, as well as a brief abstract:

Primary: Business or other for-profit.

Other (if applicable): Federal Government.

Abstract: 27 CFR part 478 requires Federal Firearms Licensees' (FFLs) who discover that a firearm(s) it shipped was stolen or lost in transit, must report the theft or loss to ATF and the appropriate local authorities within 48 hours of discovery. Reports can be filed using the Interstate Firearms Shipment Theft/Loss Report—ATF Form 3310.6.

5. An estimate of the total number of respondents and the amount of time estimated for an average respondent to respond: An estimated 950 respondents will utilize the form, and it will take each respondent approximately 20 minutes to complete their responses.

6. An estimate of the total public burden (in hours) associated with the collection: The estimated annual public burden associated with this collection is 317 hours, which is equal to 950 (# of respondents) *1 (# of responses per respondents) * .3333 (20 minutes).

7. An Explanation of the Change in Estimates: The adjustment associated with this collection include an increase in both the respondents and total burden hours for this IC by 400 and 182 respectively, since the last renewal in 2016.

If additional information is required contact: Melody Braswell, Department Clearance Officer, United States Department of Justice, Justice Management Division, Policy and Planning Staff, Two Constitution Square, 145 N Street NE, 3E.405A, Washington, DC 20530.

Dated: July 29, 2019.
Melody Braswell,
Department Clearance Officer for PRA, U.S. Department of Justice.

[FR Doc. 2019-16394 Filed 7-31-19; 8:45 am]

BILLING CODE 4410-FY-P